CORPORATION FOR NATIONAL AND COMMUNITY SERVICE

Agency Information Collection Activities; Submission to the Office of Management and Budget for Review and Approval; Comment Request; National Service Criminal History Check Recordkeeping Requirement; Proposed Information Collection; Comment Request

AGENCY: Corporation for National and Community Service.

ACTION: Notice.

SUMMARY: The Corporation for National and Community Service (CNCS) has submitted a public information collection request (ICR) entitled National Service Criminal History Check Recordkeeping Requirement for review and approval in accordance with the Paperwork Reduction Act.

DATES: Comments may be submitted, identified by the title of the information collection activity, by June 6, 2019.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

FOR FURTHER INFORMATION CONTACT: Copies of this ICR, with applicable supporting documentation, may be obtained by calling CNCS, Aaron Olszewski, at 202-606-6709 or email to aolszewski@cns.gov. Individuals who use a telecommunications device for the deaf (TTY-TDD) may use the CNCS live text chat www.nationalservice.gov/contact-us.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 21, 2018 at Vol. 83, Page 58764. This comment period ended January 22, 2019. No public comments were received from this Notice.

Title of Collection: National Service Criminal History Check Recordkeeping Requirement.

OMB Control Number: 3045-0145.

Type of Review: Renewal.

Respondents/Affected Public: Nonprofit Organizations and State, Local or Tribal Governments.

Total Estimated Number of Annual Responses: 112,357.

Total Estimated Number of Annual Burden Hours: 28,089.

Abstract: CNCS seeks to renew the current information without changes. CNCS also seeks to continue using the current information collection until the renewal is approved by OMB. The current application is due to expire on May 31, 2019.

Dated: March 19, 2019.
Aaron Olszewski,
Associate General Counsel.

[FR Doc. 2019-09250 Filed 5-6-19; 8:45 am]

BILLING CODE 6050-28-P